DEPARTMENT OF TRANSPORTATION

Transportation Security Administration

[Docket No. TSA 2001-11120]

Reports, Forms and Record Keeping Requirements Agency Information Collection Activity Under OMB Review

AGENCY: Transportation Security Administration, DOT.

ACTION: Emergency Federal Register notice.

SUMMARY: The U.S. Department of Transportation, Transportation Security Administration, has submitted the following request for emergency processing of a public information collection to the Office of Management and Budget (OMB) for review and clearance under the Paperwork Reduction Act of 1995 (Pub. L. 104-13, 44 U.S.C. chapter 35.) This notice announces that the Information Collection Request (ICR) abstracted below has been forwarded to OMB for review and comment. The ICR describes the nature of the information collections and their expected burden.

Comments: Comments should be directed to the Office of Information and Regulatory Affairs, Office of Management and Budget, 725 Seventeenth Street, NW., Washington, DC 20503, Attention: Desk Officer for the Transportation Security Administration.

Type of Request: New.

Form Number: This proposed collection of information would not use any standard forms.

DATES: OMB approval has been requested by January 31, 2002.

FOR FURTHER INFORMATION CONTACT: Rita Maristch, Office of the General Counsel, Office of Environmental, Civil Rights, and General Law, Department of Transportation (C-10), 400 Seventh Street, SW., Room 10102, Washington, DC 20590, (202) 366-9161 (voice), (202) 366-9170 (fax). You may also contact Steven Cohen, Office of the General Counsel (C-10), at (202) 366-4684.

SUPPLEMENTARY INFORMATION:

Transportation Security Administration

Title: Imposition and Collection of Passenger Civil Aviation Security Service Fees.

OMB Control Number: None assigned.

Frequency: On December 31, 2001, the Transportation Security Administration published an interim final rule imposing a security service fee (September 11th Security Fee) on page 67698 of volume 66 of the Federal Register. Imposition of this fee begins February 1, 2002. Approximately 195 air carriers and foreign air carriers are expected to collect and remit the September 11th Security Fee. Each of these carriers would then be responsible for (1) establishing and maintaining an accounting system to account for the September 11th Security Fees that are imposed, collected, refunded and remitted and (2) reporting this information to the Transportation Security Administration, U.S. Department of Transportation, on a quarterly basis. We further estimate that approximately 133 air carriers and foreign air carriers will also have to conduct an annual audit of their September 11th Security Fee activities and accounts.

Affected Public: The first information collection requirement applies to any direct air carrier or foreign air carrier providing air transportation, foreign air transportation, and intrastate air transportation, originating at airports in the United States, on either (1) a scheduled passenger or public charter passenger operation with an aircraft having passenger seating configuration of more than 60 seats or (2) a scheduled passenger or public charter passenger operation with an aircraft having a passenger seating configuration of less than 61 seats when passengers are enplaned from or deplaned into a sterile area. The further requirement to conduct an audit only applies to air carriers and foreign air carriers that collect September 11th Security Fees from more than 50,000 passengers annually.

Abstract: To pay for the costs of providing civil aviation security services as described in 49 U.S.C. 44940, a uniform fee is imposed on passengers of air carriers and foreign air carriers providing air transportation, foreign air transportation, and intrastate air transportation originating at airports in the United States.

Estimated Annual Burden: Using the above estimate of 195 carriers a year who may have to submit quarterly reports, with an estimated 1 hour of preparation to collect and provide the information, at an assumed rate of $20 an hour, the annual estimated cost of collecting and preparing the information necessary for 780 quarterly reports is $15,600. Adding in a postage cost of $265.20 (780 reports at a cost of 34 cents to mail each one), we estimate that it will cost $15,865.20 a year to prepare and submit the information necessary to satisfy the general information collection requirement.

Air carriers and foreign air carriers who will also have to conduct audits of their September 11th Security Fee activities and accounts will have an additional record-keeping burden. Using the above estimate of 133 carriers a year who may have to conduct audits, with an estimated 20 hours of preparation per audit, at an assumed rate of $30 an hour, the estimated cost of these audits is about $79,800 annually.

The total estimated cost of preparing and submitting quarterly reports and conducting audits is $95,665.20 and the total estimated burden hours are 3,440. However, we believe the actual burden will be lower because the Transportation Security Administration will provide a mechanism for the electronic submission of quarterly reports, which will reduce costs.

Number of Respondents: We estimate that there will be 195 respondents per year for the general information collection and 133 respondents for the audit-related collection.

Summary of the Collection of Information: For purposes of collecting funds to pay for the costs of providing civil aviation security services as described in 49 U.S.C. 44940, air carriers and foreign air carriers will be required to track passenger emplanements for air transportation, foreign air transportation, and intrastate air transportation originating at airports in the United States if the enplanement is on either (1) a scheduled passenger or public charter passenger operation with an aircraft having passenger seating configuration of more than 60 seats or (2) a scheduled passenger or public charter passenger operation with an aircraft having a passenger seating configuration of less than 61 seats when passengers are enplaned from or deplaned into a sterile area. These air carriers must submit quarterly reports on the total September 11th Security Fees imposed, collected, refunded and remitted, the number of enplanements for which a fee was collected, the total number of frequent flyer and nonrevenue passengers enplaned, and the total number of enplanements for which the fee was not collected. The reports must also explain why any September 11th Security Fee that should have been collected under 49 CFR part 1510 was not collected.

Additionally, each air carrier and foreign air carrier that collects September 11th Security Fees from more than 50,000 passengers annually must provide for an audit at least annually of its September 11th Security Fee activities and accounts. The accountant conducting such an audit must include in it an opinion on whether (1) the direct air carrier's or foreign air carrier's procedures for collecting, holding, and remitting the fees are fair and reasonable; and (2) whether the quarterly reports fairly represent the net transactions in the security service fee accounts.

Issued on: January 29, 2002.
Donna R. McLean,
Assistant Secretary for Budget and Programs, Chief Financial Officer, Department of Transportation.

[FR Doc. 02-2563 Filed 1-30-02; 10:45 am]

BILLING CODE 4910-62-P